DEPARTMENT OF ENERGY

Federal Energy Regulatory Commission

Combined Notice of Filings #1

Take notice that the Commission received the following exempt wholesale generator filings:

Docket Numbers: EG12-23-000.

Applicants: Erie Wind, LLC.

Description: Self-Certification of EWG Status of Erie Wind, LLC.

Filed Date: 12/23/11.

Accession Number: 20111223-5083.

Comments Due: 5 p.m. ET 1/13/12.

Take notice that the Commission received the following electric rate filings:

Docket Numbers: ER10-1144-001; ER11-2014-003; ER11-2013-003; ER11-2005-003.

Applicants: CR Clearing, LLC, Exelon Generation Company, LLC, Wind Capital Holdings, LLC, Cow Branch Wind Power, L.L.C.

Description: Updated Market Power Analysis of Exelon Generation Company, LLC, et al.

Filed Date: 12/23/11.

Accession Number: 20111223-5096.

Comments Due: 5 p.m. ET 2/21/12.

Docket Numbers: ER10-2743-001; ER10-1840-001; ER10-1842-002; ER10-2793-001; ER10-1854-002; ER10-2755-001; ER10-2739-002; ER11-27-003; ER10-3280-002; ER10-2751-001; ER10-2744-003; ER10-2740-003; ER10-2742-001; ER10-1631-002; ER10-2024-002.

Applicants: Blythe Energy, LLC, Bluegrass Generation Company, L.L.C., Renaissance Power, L.L.C, Las Vegas Power Company, LLC, DeSoto County Generating Company, LLC, Rocky Road Power, LLC, LS Power Marketing, LLC, Doswell Limited Partnership, University Park Energy, LLC, Tilton Energy LLC, Riverside Generating Company, L.L.C., LSP Safe Harbor Holdings, LLC, LSP University Park, LLC, Wallingford Energy LLC, Calhoun Power Company, LLC.

Description: Notification of Change in Status of Bluegrass Generation Company, L.L.C., et al.

Filed Date: 12/22/11.

Accession Number: 20111222-5251.

Comments Due: 5 p.m. ET 1/12/12.

Docket Numbers: ER10-3142-002; ER10-3145-002; ER10-3147-002; ER10-3148-002; ER10-3114-002; ER10-3116-002; ER10-3118-002; ER10-3120-002; ER10-3121-002; ER11-2036-002; ER10-3126-002; ER10-3128-002; ER10-3131-002; ER10-1800-002; ER10-3136-002; ER11-2701-003; ER10-1728-002; ER10-2491-002.

Applicants: Indianapolis Power & Light Company, AES Eastern Energy, LP, DPL Energy, LLC, The Dayton Power and Light Company, AES Energy Storage, LLC, AES Alamitos, LLC, AES Redondo Beach, L.L.C., Condon Wind Power, LLC, AES Huntington Beach, L.L.C., AES Creative Resources, L.P., AES Armenia Mountain Wind, LLC, AES ES Westover, LLC, AES Ironwood, L.L.C., AES Red Oak, L.L.C., Mountain View Power Partners, LLC, AEE2, L.L.C., Mountain View Power Partners IV, LLC, AES Laurel Mountain LLC.

Description: AES MBR Affiliates Market Power Analysis for the Central Region.

Filed Date: 12/23/11.

Accession Number: 20111223-5085.

Comments Due: 5 p.m. ET 2/21/12.

Docket Numbers: ER12-623-001; ER12-624-001; ER11-2670-002.

Applicants: Occidental Chemical Corporation, Occidental Power Services, Inc., Occidental Power Marketing, L.P.

Description: Updated Market Power Analysis for the Southeast Region of Occidental Chemical Corporation, et al.

Filed Date: 12/22/11.

Accession Number: 20111222-5250.

Comments Due: 5 p.m. ET 2/21/12.

Docket Numbers: ER12-668-000.

Applicants: Midwest Independent Transmission System Operator, Inc.

Description: 12-22-11 ELMP Filing to be effective 12/31/9998.

Filed Date: 12/22/11.

Accession Number: 20111222-5154.

Comments Due: 5 p.m. ET 1/12/12.

Docket Numbers: ER12-669-000.

Applicants: Trans Bay Cable LLC.

Description: TRBAA Filing to be effective 1/1/2012.

Filed Date: 12/22/11.

Accession Number: 20111222-5155.

Comments Due: 5 p.m. ET 1/12/12.

Docket Numbers: ER12-669-001.

Applicants: Trans Bay Cable LLC.

Description: TRBAA Option B to be effective 1/1/2012.

Filed Date: 12/22/11.

Accession Number: 20111222-5179.

Comments Due: 5 p.m. ET 1/12/12.

Docket Numbers: ER12-669-002.

Applicants: Trans Bay Cable LLC.

Description: TRBAA Filing—Full Set of Exhibits to Option A to be effective 1/1/2012.

Filed Date: 12/23/11.

Accession Number: 20111223-5003.

Comments Due: 5 p.m. ET 1/13/12.

Docket Numbers: ER12-669-003.

Applicants: Trans Bay Cable LLC.

Description: TRBAA Filing Full Set of Exhibits to Option B to be effective 1/1/2012.

Filed Date: 12/23/11.

Accession Number: 20111223-5004.

Comments Due: 5 p.m. ET 1/13/12.

Docket Numbers: ER12-670-000.

Applicants: Rhode Island LFG Genco LLC.

Description: Rhode Island LFG Genco LLC MBR Tariff to be effective 2/20/2012.

Filed Date: 12/22/11.

Accession Number: 20111222-5163.

Comments Due: 5 p.m. ET 1/12/12.

Docket Numbers: ER12-671-000.

Applicants: Northern States Power Company, a Wisconsin corporation.

Description: 2011-12-22_NSPW Medford Intercon Agrmt-317 to be effective 1/1/2012.

Filed Date: 12/22/11.

Accession Number: 20111222-5174.

Comments Due: 5 p.m. ET 1/12/12.

Docket Numbers: ER12-672-000.

Applicants: Brea Power II LLC.

Description: Brea Power II LLC MBR Tariff to be effective 2/20/2012.

Filed Date: 12/22/11.

Accession Number: 20111222-5175.

Comments Due: 5 p.m. ET 1/12/12.

Docket Numbers: ER12-673-000.

Applicants: Brea Generation LLC.

Description: Brea Generation LLC MBR Tariff to be effective 2/20/2012.

Filed Date: 12/22/11.

Accession Number: 20111222-5176.

Comments Due: 5 p.m. ET 1/12/12.

Docket Numbers: ER12-674-000.

Applicants: Rhode Island Engine Genco LLC.

Description: Rhode Island Engine Genco LLC MBR Tariff to be effective 2/20/2012.

Filed Date: 12/22/11.

Accession Number: 20111222-5177.

Comments Due: 5 p.m. ET 1/12/12.

Docket Numbers: ER12-675-000.

Applicants: Pacific Gas and Electric Company.

Description: CCSF IA—2012 Annual Transmission Rate Adjustment to be effective 1/1/2012.

Filed Date: 12/22/11.

Accession Number: 20111222-5178.

Comments Due: 5 p.m. ET 1/12/12.

Docket Numbers: ER12-676-000.

Applicants: Perrin Ranch Wind, LLC.

Description: Perrin Ranch Wind, LLC Application for Market-Based Rates to be effective 1/1/2012.

Filed Date: 12/22/11.

Accession Number: 20111222-5180.

Comments Due: 5 p.m. ET 1/12/12.

Docket Numbers: ER12-677-000.

Applicants: ITC Midwest LLC.

Description: ITC Midwest—Storm Lake Power Partners 205 Filing to be effective 2/21/2012.

Filed Date: 12/22/11.

Accession Number: 20111222-5229.

Comments Due: 5 p.m. ET 1/12/12.

Docket Numbers: ER12-678-000.

Applicants: Midwest Independent Transmission System Operator, Inc.

Description: 12-22-11 VLR RSG Cost Allocation to be effective 4/1/2012.

Filed Date: 12/23/11.

Accession Number: 20111223-5000.

Comments Due: 5 p.m. ET 1/13/12.

Docket Numbers: ER12-678-000.

Applicants: Midwest Independent Transmission System Operator, Inc.

Description: Supplemental filing of MISO to include the inadvertently omitted Tab D (Vannoy Affidavit).

Filed Date: 12/23/11.

Accession Number: 20111223-5067.

Comments Due: 5 p.m. ET 1/13/12.

Docket Numbers: ER12-679-000.

Applicants: Midwest Independent Transmission System Operator, Inc.

Description: 12-22-11 VLR Mitigation to be effective 4/1/2012.

Filed Date: 12/23/11.

Accession Number: 20111223-5001.

Comments Due: 5 p.m. ET 1/13/12.

Docket Numbers: ER12-680-000.

Applicants: Southern California Edison Company.

Description: LGIA Catalina Solar Project, Catalina Solar LLC to be effective 12/24/2011.

Filed Date: 12/23/11.

Accession Number: 20111223-5005.

Comments Due: 5 p.m. ET 1/13/12.

Docket Numbers: ER12-681-000.

Applicants: PJM Interconnection, L.L.C., Carolina Power & Light Company.

Description: Minor revisions to Articles 7.1.2, 13.3 & 14.5.4 of the PJM-Progress JOA to be effective 1/1/2012.

Filed Date: 12/23/11.

Accession Number: 20111223-5075.

Comments Due: 5 p.m. ET 1/13/12.

Docket Numbers: ER12-682-000.

Applicants: Erie Wind, LLC.

Description: MBR Application of Erie Wind, LLC to be effective 12/24/2011.

Filed Date: 12/23/11.

Accession Number: 20111223-5077.

Comments Due: 5 p.m. ET 1/13/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2011.
Nathaniel J. Davis, Sr.,
Deputy Secretary.

[FR Doc. 2011-33676 Filed 1-3-12; 8:45 am]

BILLING CODE 6717-01-P